NATIONAL AERONAUTICS AND SPACE ADMINISTRATION

[Notice 02-100]

NASA Advisory Council, Revolutionize Aviation Subcommittee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council, Aerospace Technology Advisory Committee (ATAC), Revolutionize Aviation Subcommittee (RAS).

DATES: Wednesday, September 18, 2002, 8 a.m. to 5 p.m.

ADDRESSES: National Aeronautics and Space Administration, Room 3H46, 300 E Street, SW., Washington, DC 20546.

FOR FURTHER INFORMATION CONTACT: Ms. Bernice E. Lynch, Office of Aerospace Technology, National Aeronautics and Space Administration, Washington, DC 20546-0001, 202/358-4594.

SUPPLEMENTARY INFORMATION: The meeting will be open to the public up to the seating capacity of the room. The agenda for the meeting is as follows:

• Revolutionize Aviation Subcommittee (RAS) Overview

• Overview of Aeronautics Programs

• NASA Aeronautics Performance Report

• NASA Aeronautics Strategy & Planning

It is imperative that the meeting be held on these dates to accommodate the scheduling priorities of the key participants.

Dated: August 14, 2002.
Sylvia K. Kraemer,
Acting Advisory Committee Management Officer, National Aeronautics and Space Administration.

[FR Doc. 02-21202 Filed 8-19-02; 8:45 am]

BILLING CODE 7510-01-P